ENVIRONMENTAL PROTECTION AGENCY

40 CFR Part 60

[AD-FRL-7136-2]

Amendments to Standards of Performance for New Stationary Sources; Monitoring Requirements

AGENCY: Environmental Protection Agency (EPA).

ACTION: Proposed rule; notice of public hearing and reopening of comment period.

SUMMARY: This document announces an informal public hearing EPA is holding to take comments on the Agency's proposed rule for Performance Specification 11 (PS-11): Specifications and Test Procedures for Particulate Matter Continuous Emission Monitoring Systems at Stationary Sources and Procedure 2: Quality Assurance Requirements for Particulate Matter Continuous Monitoring Systems at Stationary Sources (Procedure 2), published on December 12, 2001. The comment period for the above-named action is also being reopened for an additional 60-days.

DATES: Public Hearing. The public hearing will be held on Friday, February 22, 2002, from 9:30 a.m. to 4 p.m. (EST). The hearing may conclude prior to 4 p.m., depending on the number of attendees and level of interest. If you are interested in attending the hearing, you must call the contact person listed below (see FOR FURTHER INFORMATION CONTACT).

Comments. You must submit comments so that they are received on or before March 12, 2002.

Request to Speak at Hearing. If you wish to present oral testimony at the public hearing, you must call the contact person listed below.

ADDRESSES: Public Hearing: The location for this public hearing will be the Environmental Research Center Auditorium, Research Commons, 86 T.W. Alexander Drive, Research Triangle Park, NC 27711.

Comments: You may submit your comments by electronic mail (e-mail) to: a-and-r-docket@epa.gov and bivins.dan@epa.gov. You must submit e-mail comments either as an ASCII file avoiding the use of special characters and any form of encryption or as an attachment in WordPerfect ® version 5.1, 6.1 or Corel 8 file format. You must note the docket number: (A-2001-10) on all comments and data submitted in electronic form. Do not submit confidential business information (CBI) by e-mail. Electronic comments may be filed online at many Federal Depository Libraries.

Worldwide Web (WWW). In addition to being available in the docket, you can find an electronic copy of the December 12 proposal on the WWW through the Technology Transfer Network (TTN). A copy of the proposal has been posted on the Emission Measurement Center's TTN web site at http://www.epa.gov/ttn/emc under Monitoring. We are only accepting comment on the items in that proposal, including supplemental comments or comments in rebuttal to information received at the public hearing. The TTN provides information and technology exchange in various areas of air pollution control. If you need more information regarding the TTN, call the TTN HELP line at (919) 541-5384.

FOR FURTHER INFORMATION CONTACT: For information concerning the hearing or the December 12 proposal, contact Mr. Daniel G. Bivins, Emission Measurement Center (D-220D), Emissions, Monitoring, and Analysis Division, U. S. Environmental Protection Agency, Research Triangle Park, North Carolina 27711, telephone number (919) 541-5244.

SUPPLEMENTARY INFORMATION: EPA published its proposed rule for PS-11 and Procedure 2 in the Federal Register on December 12, 2001 (66 FR 64176-64207). In that notice EPA proposes to revise portions of a previously proposed rule concerning particulate matter continuous emission monitoring to respond to comments received on that previous proposal and to reflect relevant new information obtained subsequent to that proposal. In the December 12 notice, EPA provided a 30-day public comment period on the supplemental proposal (ending January 11, 2002), and also indicated that a public hearing would be held if requested by any member of the public and that if a hearing is held, rebuttal and supplementary information may be submitted to the docket for 30 days following the hearing.

EPA received six comments requesting a public hearing and also requesting that the 30-day public comment period be extended for an additional 60 days. Since EPA now intends to hold a hearing and to accept comments until March 12, we believe that this 60-day reopening of the comment period is sufficient to enable interested members of the public to further evaluate the proposed rule as well as any comments received at the public hearing.

The proposed rule is available electronically on the Internet at the web address shown above. The proposed rule and supporting materials are also available for viewing in the Air and Radiation Docket and Information Center, located at 1200 Pennsylvania Avenue, NW., (Ariel Rios Building), 2nd Floor, Room 2213, Washington, DC 20460. The documents are available for viewing from 9 a.m. to 4 p.m., Monday through Friday, excluding Federal holidays. To review docket materials, it is recommended that the public make an appointment by calling (202) 564-2614 or (202) 564-2119.

Dated: January 25, 2002.
Robert D. Brenner,
Principal Deputy Assistant Administrator, Office of Air and Radiation.

[FR Doc. 02-2232 Filed 1-29-02; 8:45 am]

BILLING CODE 6560-50-P